POSTAL REGULATORY COMMISSION

[Docket Nos. RM2021-2, RM2022-5, RM2022-6, and RM2024-4; Order No. 9464]

RIN 3211-AA37

System for Regulating Rates and Classes for Market Dominant Products

AGENCY: Postal Regulatory Commission.

ACTION: Notice.

SUMMARY: The Commission is extending the deadline to respond to petitions in Docket Nos. RM2021-2, RM2022-5, RM2022-6, and RM2024-4.

DATES: The responses to any petition (including the Postal Service Petitions) are due: March 6, 2026.

FOR FURTHER INFORMATION CONTACT: David A. Trissell, General Counsel, at 202-789-6820.

SUPPLEMENTARY INFORMATION:

Table of Contents

I. Introduction

II. Background

III. Commission Analysis

IV. Ordering Paragraphs

I. Introduction

On February 23, 2026, the Alliance of Nonprofit Mailers (ANM) filed a motion for a 1-week extension of time until March 9, 2026, for parties to file responses to petitions filed in the instant proceedings.¹ For the reasons discussed below, the Commission partially grants the Motion and extends the deadline for responses to petitions to March 6, 2026.

¹ Motion of Alliance of Nonprofit Mailers for Extension of Time for Parties to Respond to Petitions, February 23, 2026, at 1 (Motion).

II. Background

On January 13, 2026, the Commission issued Order No. 9427 to set a deadline of 30 days after the date of the publication of that order in the Federal Register for interested persons to request, by petition in the instant proceedings, that the Commission consider specific proposals for modifications to the Market Dominant ratemaking system or for an alternative system.² On December 22, 2025, the Postal Service filed two petitions.³ Order No. 9427 also set a deadline of 44 days after the date of publication of that order in the Federal Register for responses to any petition (including the Postal Service Petitions). Order No. 9427 at 5. Order No. 9427 was published in the Federal Register on January 16, 2026.⁴ Therefore, the deadline for interested persons to file petitions was February 17, 2026, and the deadline for responses to any petition (including the Postal Service Petitions) is March 2, 2026. Id. at 2093.

² Procedural Order on 39 CFR 3010.201(b) Proposals, January 13, 2026, at 5 (Order No. 9427).

³ United States Postal Service Petition for Rulemaking to Repeal the Minimum Remittance Payment Requirement, December 22, 2025; United States Postal Service Petition for Rulemaking to Modify the Market-Dominant Ratemaking System to Achieve Objectives 5 and 8, December 22, 2025 (Postal Service Petitions).

⁴ System for Regulating Rates and Classes for Market Dominant Products, 91 FR 2093 (Jan. 16, 2026).

On February 17, 2026, six interested persons filed petitions.⁵ On or before February 17, 2026, other interested persons also filed comments for the Commission's consideration.⁶

⁵ Petition of Alliance of Nonprofit Mailers, February 17, 2026; Petition of the Envelope Manufacturers Association for Modification of the System for Regulating Market Dominant Rates, February 17, 2026; Mailers Hub Petition for Rulemaking to Modify the Market-Dominant Ratemaking System, February 17, 2026; Petition of the News/Media Alliance for Modification of the System for Regulating Rates for Market Dominant Products, February 17, 2026; Petition of the National Postal Policy Council for Modification of the System for Regulating Market Dominant Rates, February 17, 2026; Petition of the Association for Postal Commerce, February 17, 2026.

⁶ See, e.g., Comments by Quad/Graphics, Inc., February 17, 2026; Supplemental Comments of Keep US Posted, February 17, 2026.

On February 23, 2026, ANM filed the Motion seeking a 1-week extension of time until March 9, 2026, for parties to file responses to petitions. Motion at 1. ANM states that due to adverse weather conditions in the Washington, DC region on February 22 and 23, 2026, it requests a 1-week extension of the deadline. Id. at 2. ANM argues that the Commission has recognized “severe weather” as a basis for granting extensions of time in the past.⁷ ANM asserts that its requested extension would have a minimal effect on the Commission's procedural schedule and would not adversely impact any party. Id.

⁷ Id. (citing Docket No. PI2016-2, Order Granting Motion to Extend Comment Deadline, January 28, 2016 (Order No. 3054); Docket No. PI2010-1, Order Granting Extension of Time, February 12, 2010 (Order No. 408)).

On February 24, 2026, the Association for Postal Commerce (PostCom) filed a response to the Motion, stating that it does not oppose the Motion and agrees that the requested extension would provide parties with time to fully digest the petitions and would not impact the timing of the Commission's proceedings.⁸

⁸ Response of the Association for Postal Commerce to Motion of the Alliance of Nonprofit Mailers for Extension of Time to Respond to Petitions, February 24, 2026, at 1 (Response).

III. Commission Analysis

A motion for extension of time “shall only be granted upon consideration of the potential adverse impact, if any, on other participants and the overall impact on the procedural schedule.” 39 CFR 3010.162(c). Having reviewed the Motion, the Commission finds that the Motion has partially met the criteria in 39 CFR 3010.162(c). The Motion is unopposed. Response at 1. Because the requested extension would apply to all interested persons, no other participant would be adversely impacted by the extension. However, the adverse weather conditions in the Washington, DC region lasted only 2 days on February 22 and 23, 2026, 1 of which was a Sunday. The Federal government was open on February 23, 2026, with 2 hours delayed arrival and the option for unscheduled leave or unscheduled telework.⁹ This is unlike the severe weather conditions experienced by the region in February 2010 or January 2016, both of which triggered multiple days of Federal government closure.¹⁰ In the future, interested persons should not expect the Commission to grant an extension of time owing to adverse weather conditions that is much longer than what the duration of adverse weather conditions would justify. In addition, considering that the Commission intends to expedite consideration of any proposals it decides to pursue in its discretion based on consideration of petitions and also any additional proposals as the Commission may make,¹¹ the Commission finds that the requested 1-week extension would have some adverse impact on the procedural schedule. Therefore, the Commission partially grants the Motion and extends the deadline for responses to petitions to March 6, 2026.

⁹ OPM Operating Status Archives, Washington, DC Area, February 23, 2026, available at https://www.opm.gov/policy-data-oversight/snow-dismissal-procedures/status-archives/26/2/22/Open---2-hours-Delayed-Arrival---With-Option-for-Unscheduled-Leave-or-Unscheduled-Telework_3189/.

¹⁰ The Federal government was closed from February 8 through February 11, 2010. Order No. 408 at 1. The Federal government was closed from January 23 through January 26, 2016. OPM Operating Status Archives, Washington, DC Area, January 23-24, 2016, available at https://www.opm.gov/policy-data-oversight/snow-dismissal-procedures/status-archives/16/1/22/FEDERAL-OFFICES-in-the-Washington-DC-area-remain-CLOSED_687/; OPM Operating Status Archives, Washington, DC Area, January 25, 2016, available at https://www.opm.gov/policy-data-oversight/snow-dismissal-procedures/status-archives/16/1/24/Federal-Offices-are-Closed---Emergency-and-Telework-ready-Employees-Must-Follow-Their-Agencys-Policies_692/; OPM Operating Status Archives, Washington, DC Area, January 26, 2016, available at https://www.opm.gov/policy-data-oversight/snow-dismissal-procedures/status-archives/16/1/25/Federal-Offices-are-Closed---Emergency-and-Telework-ready-Employees-Must-Follow-Their-Agencys-Policies_698/.

¹¹ Order No. 9427 at 4.

IV. Ordering Paragraphs

It is ordered:

1. The Motion of Alliance of Nonprofit Mailers for Extension of Time for Parties to Respond to Petitions, filed on February 23, 2026, is partially granted.

2. Responses to any petition (including the Postal Service Petitions) are due March 6, 2026.

3. This Order, or abstract thereof, shall be published in the Federal Register.

By the Commission.
Sarah Wessel,
Senior Paralegal Specialist.

[FR Doc. 2026-04157 Filed 3-2-26; 8:45 am]

BILLING CODE 7710-FW-P